DEPARTMENT OF THE INTERIOR

Bureau of Land Management

[BLM_NV_FRN_MO#4500179326]

Notice of Segregation of Public Land for the Samantha Solar Project, White Pine County, Nevada

AGENCY: Bureau of Land Management, Department of the Interior.

ACTION: Notice of segregation.

SUMMARY: Through this notice the Bureau of Land Management (BLM) is segregating public lands for the Samantha Solar project right-of-way application from appropriation under the public land laws, including the Mining Law, but not the Mineral Leasing or Material Sales Acts, for a period of 2 years from the date of publication of this notice, subject to valid existing rights. This segregation is to allow for the orderly administration of the public lands to facilitate consideration of development of renewable energy resources. The public lands segregated by this notice total 4,810.00 acres.

DATES: This segregation for the lands identified in this notice is effective on July 8, 2024.

FOR FURTHER INFORMATION CONTACT: Jared Bybee, Field Manager, at telephone (775) 289-1847; address 702 N Industrial Way, Ely, NV 89301 or email jbybee@blm.gov. Individuals in the United States who are deaf, deafblind, hard of hearing, or have a speech disability may dial 711 (TTY, TDD, or TeleBraille) to access telecommunications relay services for contacting Mr. Collins. Individuals outside the United States should use the relay services offered within their country to make international calls to the point-of-contact in the United States.

SUPPLEMENTARY INFORMATION: Regulations found at 43 CFR 2091.3-1(e) and 2804.25(f) allow the BLM to temporarily segregate public lands within a right-of-way application area for solar energy development from the operation of the public land laws, including the Mining Law, by publication of a Federal Register notice. The BLM uses this temporary segregation authority to preserve its ability to approve, approve with modifications, or deny proposed rights-of-way, and to facilitate the orderly administration of the public lands. This temporary segregation is subject to valid existing rights, including existing mining claims located before this segregation notice. Licenses, permits, cooperative agreements, or discretionary land use authorizations of a temporary nature that would not impact lands identified in this notice may be allowed with the approval of an authorized officer of the BLM during the segregation period. The lands segregated under this notice are legally described as follows:

Mount Diablo Meridian, Nevada

T. 16 N., R. 60 E.,

Sec. 1, lots 1, 2, 7 thru 11, SW¼NE¼, and W½SE¼;

Sec. 2, S½SW¼ and SW¼SE¼;

Sec. 10, E½NE¼ and E½SE¼;

Sec. 11, N½, SW¼, N½SE¼, and SW¼SE¼;

Sec. 12, lots 1 thru 4, W½NE¼, and W½SE¼;

Sec. 13, lots 1 thru 4, W½NE¼, NE¼NW¼, S½NW¼, N½SW¼, SE¼SW¼, and W½SE¼;

Sec. 14, W½NE, W½, and NW¼SE¼;

Sec. 15, E½NE¼ and E½SE¼;

Sec. 22, E½NE¼ and E½SE¼;

Sec. 23, W½NE¼ and NW¼;

Sec. 24, lots 1 thru 4, W½NE¼, E½NW¼, E½SW¼ and W½SE¼;

Sec. 25, lots 1 thru 4, W½NE¼, E½NW¼, NE¼SW¼ and W½SE¼;

T. 17 N., R. 60 E.,

Sec. 36, SW¼NE¼, SE¼NW¼, E½SW¼, and SE¼;

T. 16 N., R. 61 E.,

Sec. 18, lots 3 and 4;

Sec. 19, lots 1 thru 4;

Sec. 30, lots 1 thru 4.

The area described contains 4,810.00 acres, according to the official protraction diagrams and the official plats of the surveys of the said lands, on file with the BLM.

As provided in the regulations, the segregation of lands in this notice will not exceed 2 years from the date of publication unless extended for an additional 2 years through publication of a new notice in the Federal Register. The segregation period will terminate and the land will automatically reopen to appropriation under the public land laws, including the Mining Law, at the earliest of the following dates: upon issuance of a decision by the authorized officer granting, granting with modifications, or denying the application for a right-of-way; automatically at the end of the segregation; or upon publication of a Federal Register notice terminating the segregation.

Upon termination of the segregation of these lands, all lands subject to this segregation would automatically reopen to appropriation under the public land laws, including the Mining Law.

Authority: 43 CFR 2091.3-l(e) and 43 CFR 2804.25(f).

Tiera Arbogast,
Acting Deputy District Manager—Ely District.

[FR Doc. 2024-14906 Filed 7-5-24; 8:45 am]

BILLING CODE 4331-21-P